Executive Order 14279 of April 23, 2025

Reforming Accreditation To Strengthen Higher Education

By the authority vested in me as President by the Constitution and the laws of the United States of America, it is hereby ordered:

Section 1. Purpose. A group of higher education accreditors are the gatekeepers that decide which colleges and universities American students can spend the more than $100 billion in Federal student loans and Pell Grants dispersed each year. The accreditors' job is to determine which institutions provide a quality education—and therefore merit accreditation. Unfortunately, accreditors have not only failed in this responsibility to students, families, and American taxpayers, but they have also abused their enormous authority.

Accreditors routinely approve institutions that are low-quality by the most important measures. The national six-year undergraduate graduation rate was an alarming 64 percent in 2020. Further, many accredited institutions offer undergraduate and graduate programs with a negative return on investment—almost 25 percent of bachelor's degrees and more than 40 percent of master's degrees—which may leave students financially worse off and in enormous debt by charging them exorbitant sums for a degree with very modest earnings potential.

Notwithstanding this slide in graduation rates and graduates' performance in the labor market, the spike in debt obligations in relation to expected earnings, and repayment rates on student loans, accreditors have remained improperly focused on compelling adoption of discriminatory ideology, rather than on student outcomes. Some accreditors make the adoption of unlawfully discriminatory practices a formal standard of accreditation, and therefore a condition of accessing Federal aid, through “diversity, equity, and inclusion” or “DEI”-based standards of accreditation that require institutions to “share results on diversity, equity, and inclusion (DEI) in the context of their mission by considering . . . demographics . . . and resource allocation.” Accreditors have also abused their governance standards to intrude on State and local authority.

The American Bar Association's Council of the Section of Legal Education and Admissions to the Bar (Council), which is the sole federally recognized accreditor for Juris Doctor programs, has required law schools to “demonstrate by concrete action a commitment to diversity and inclusion” including by “commit[ting] to having a student body [and faculty] that is diverse with respect to gender, race, and ethnicity.” As the Attorney General has concluded and informed the Council, the discriminatory requirement blatantly violates the Supreme Court's decision in Students for Fair Admissions, Inc. v. President and Fellows of Harvard College, 600 U.S. 181 (2023). Though the Council subsequently suspended its enforcement while it considers proposed revisions, this standard and similar unlawful mandates must be permanently eradicated.

The Liaison Committee on Medical Education, which is the only federally recognized body that accredits Doctor of Medicine degree programs, requires that an institution “engage[ ] in ongoing, systematic, and focused recruitment and retention activities, to achieve mission-appropriate diversity outcomes among its students.” The Accreditation Council for Graduate Medical Education, which is the sole accreditor for both allopathic and osteopathic medical residency and fellowship programs, similarly “expect[s]” institutions to focus on implementing “policies and procedures related to recruitment and retention of individuals underrepresented in medicine,” including “racial and ethnic minority individuals.” The standards for training tomorrow's doctors should focus solely on providing the highest quality care, and certainly not on requiring unlawful discrimination.

American students and taxpayers deserve better, and my Administration will reform our dysfunctional accreditation system so that colleges and universities focus on delivering high-quality academic programs at a reasonable price. Federal recognition will not be provided to accreditors engaging in unlawful discrimination in violation of Federal law.

Sec. 2. Holding Accreditors Accountable for Unlawful Actions. (a) The Secretary of Education shall, as appropriate and consistent with applicable law, hold accountable, including through denial, monitoring, suspension, or termination of accreditation recognition, accreditors who fail to meet the applicable recognition criteria or otherwise violate Federal law, including by requiring institutions seeking accreditation to engage in unlawful discrimination in accreditation-related activity under the guise of “diversity, equity, and inclusion” initiatives.

(b) The Attorney General and the Secretary of Education shall, as appropriate and consistent with applicable law, investigate and take appropriate action to terminate unlawful discrimination by American law schools that is advanced by the Council, including unlawful “diversity, equity, and inclusion” requirements under the guise of accreditation standards. The Secretary of Education shall also assess whether to suspend or terminate the Council's status as an accrediting agency under Federal law.

(c) The Attorney General and the Secretary of Education, in consultation with the Secretary of Health and Human Services, shall investigate and take appropriate action to terminate unlawful discrimination by American medical schools or graduate medical education entities that is advanced by the Liaison Committee on Medical Education or the Accreditation Council for Graduate Medical Education or other accreditors of graduate medical education, including unlawful “diversity, equity, and inclusion” requirements under the guise of accreditation standards. The Secretary of Education shall also assess whether to suspend or terminate the Committee's or the Accreditation Council's status as an accrediting agency under Federal law or take other appropriate action to ensure lawful conduct by medical schools, graduate medical education programs, and other entities that receive Federal funding for medical education.

Sec. 3. New Principles of Student-Oriented Accreditation. (a) To realign accreditation with high-quality, valuable education for students, the Secretary of Education shall, consistent with applicable law, take appropriate steps to ensure that:

(i) accreditation requires higher education institutions to provide high-quality, high-value academic programs free from unlawful discrimination or other violations of Federal law;

(ii) barriers are reduced that limit institutions from adopting practices that advance credential and degree completion and spur new models of education;

(iii) accreditation requires that institutions support and appropriately prioritize intellectual diversity amongst faculty in order to advance academic freedom, intellectual inquiry, and student learning;

(iv) accreditors are not using their role under Federal law to encourage or force institution to violate State laws, unless such State laws violate the Constitution or Federal law; and

(v) accreditors are prohibited from engaging in practices that result in credential inflation that burdens students with additional unnecessary costs.

(b) To advance the policies and objectives in subsection (a) of this section, the Secretary of Education shall:

(i) resume recognizing new accreditors to increase competition and accountability in promoting high-quality, high-value academic programs focused on student outcomes;

(ii) mandate that accreditors require member institutions to use data on program-level student outcomes to improve such outcomes, without reference to race, ethnicity, or sex;

(iii) promptly provide to accreditors any noncompliance findings relating to member institutions issued after an investigation conducted by the Office of Civil Rights under Title VI of the Civil Rights Act of 1964 (42 U.S.C. 2000d et seq.) or Title IX of the Education Amendments Act of 1972 (20 U.S.C. 1681 et seq.);

(iv) launch an experimental site, pursuant to section 487A(b) of the Higher Education Act of 1965 (20 U.S.C. 1094a(b)), to accelerate innovation and improve accountability by establishing new flexible and streamlined quality assurance pathways for higher education institutions that provide high-quality, high-value academic programs;

(v) increase the consistency, efficiency, and effectiveness of the accreditor recognition review process, including through the use of technology;

(vi) streamline the process for higher education institutions to change accreditors to ensure institutions are not forced to comply with standards that are antithetical to institutional values and mission; and

(vii) update the Accreditation Handbook to ensure that the accreditor recognition and reauthorization process is transparent, efficient, and not unduly burdensome.

Sec. 4. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

April 23, 2025.

[FR Doc. 2025-07376

Filed 4-25-25; 8:45 am]

Billing code 3395-F4-P